DEPARTMENT OF ENERGY

Federal Energy Regulatory Commission

[Docket No. SA04-1-000]

CEC Technologies, Limited; Notice of Petition for Adjustment

November 19, 2003.

Take notice that on October 28, 2003, CEC Technologies Limited (CEC), filed a petition for staff adjustment under section 502(c) of the Natural Gas Policy Act (NGPA) of 1978,¹ and Rules 207 and 212 (18 CFR 385.207—385.212) of the Commission's Rules of Practice and Procedure.CEC seeks relief from paying Kansas ad valorem tax refunds to Northern Natural Gas Company (Northern), pursuant to the Commission's January 2, 2003, order in Northern, Docket No. RP98-39-029.²

¹ 15 U.S.C. 3142 (c) (1982).

² 102 FERC ¶ 61,007 (2003).

In this petition, CEC asserts it first became aware of a refund claim against CEC earlier this year when it received a letter from Northern stating that Chinook Energy Corporation (Chinook) had a refund obligation of Kansas ad valorem taxes by reason of Chinook's ownership of working interest in natural gas wells in Comanche County, Kansas.

CEC asserts: (1) It had no knowledge of the claims made by Northern and therefore is not in a position to affirm or deny Northern's claims; (2) it does not own any gas producing properties in Kansas or have any records of Chinook or CEC ever receiving any revenues from Northern or from any other pipeline with respect to gas producing properties in Kansas; (3) it neither owns any working interests in any gas producing properties; (4) it has no record of such Kansas properties; (5) it has virtually no revenues from any source with which it might make refunds; and (6) it does not have the financial resources to prosecute its claim for relief through the evidentiary and multiple briefing phases associated with the Commission hearing in Docket No. RP98-39-029.

Any person desiring to protest said filing should file a protest with the Federal Energy Regulatory Commission, 888 First Street, NE., Washington, DC 20426, in accordance with sections 385.211 of the Commission's Rules and Regulations. All such protests must be filed in accordance with section 154.210 of the Commission's Regulations. Protests will be considered by the Commission in determining the appropriate action to be taken, but will not serve to make protestants parties to the proceeding. Any person wishing to become a party to the proceeding or to participate as a party in any hearing therein must file a motion to intervene in accordance with the Commission rules. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the eFiling link.

Comment Date: December 3, 2003.

Magalie R. Salas,
Secretary.

[FR Doc. E3-00392 Filed 11-25-03; 8:45 am]

BILLING CODE 6717-01-P